DEPARTMENT OF THE INTERIOR

Bureau of Land Management

[CA-660-1430-ET; CACA 49558]

Notice of Proposed Withdrawal and Opportunity for Public Meeting; California

AGENCY: Bureau of Land Management, Interior.

ACTION: Notice.

SUMMARY: The Secretary of the Interior proposes to withdraw 550 acres of public land from surface entry and mining for reclamation purposes on behalf of the Bureau of Reclamation. This notice segregates the lands for up to 2 years from surface entry and mining while various studies and analyses are made to support a final decision on the withdrawal application. The lands will remain open to mineral and geothermal leasing and mineral material sales.

DATES: Comments should be received on or before January 13, 2009.

ADDRESSES: Comments and requests for a public meeting should be sent to Joe Liebhauser, Director, Resources Management Office, Lower Colorado Regional Office, Bureau of Reclamation, P.O. Box 61470, Boulder City, Nevada 89006-1470.

FOR FURTHER INFORMATION CONTACT: Ms. Kay Sundberg, Bureau of Reclamation, Lower Colorado Region, P.O. Box 61470, Boulder City, NV 89006-1470, 702-293-8176.

SUPPLEMENTARY INFORMATION: The applicant is the Bureau of Reclamation at the address stated above and its petition/application requests the Secretary of the Interior to withdraw, subject to valid existing rights, the following described public land from settlement, sale, location or entry under the general land laws, including the United States mining laws, but not the mineral leasing laws:

San Bernardino Meridian

T. 7 S., R. 8 E.,

Sec. 32, W½NW¼NE¼, SW¼NE¼, SW¼SE¼NE¼, W½, and SE¼.

The area described contains 550 acres in Riverside County.

The Bureau of Reclamation's petition/application has been approved by the Assistant Secretary, Land and Minerals Management, therefore, it constitutes a withdrawal proposal of the Secretary of the Interior (43 CFR 2310.1-3(e)).

The land would be withdrawn to protect both existing and planned Federal facilities, structures, and improvements that were or will be constructed and utilized on behalf of the All-American Canal Project, pursuant to the Boulder Canyon Project Act of December 21, 1928, as amended (43 U.S.C. 617).

The use of a right-of-way, interagency agreement, cooperative agreement, or surface management under 43 CFR Part 3809 regulations would not adequately constrain non-discretionary uses that could irrevocably affect the use of the land for reclamation purposes.

There are no suitable alternative sites since the land described herein contains the existing and planned facilities, structures, and improvements.

Until January 13, 2009, all persons who wish to submit comments, suggestions, or objections in connection with the proposed withdrawal may present their views in writing to Joe Liebhauser, at the Bureau of Reclamation address above.

Comments, including names and street addresses for respondents, will be available for public review at Bureau of Land Management's (BLM) California State Office, 2800 Cottage Way, Suite W-1834, Sacramento, California 95825-1886, during regular business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Notice is hereby given that an opportunity for a public meeting is afforded in connection with the proposed withdrawal. All interested persons who desire a public meeting for the purpose of being heard on the proposed withdrawal must submit a written request no later than January 13, 2009. Upon determination by the authorized officer that a public meeting will be held, a notice of time and place will be published in the Federal Register and a local newspaper at least 30 days before the scheduled date of the meeting.

The application will be processed in accordance with the regulations set forth in 43 CFR part 2300.

For a period of 2 years from October 15, 2008, the Federal land and minerals will be segregated as specified above unless the application is denied or canceled or the withdrawal is approved prior to that date.

During the segregative period, BLM may, after consulting with the Bureau of Reclamation, allow uses of a temporary nature that are compatible with the reclamation purposes for which the land is being withdrawn.

Authority: 43 CFR 2310.3-1.

Dated: October 8, 2008.
Robert M. Doyel,
Chief, Branch of Lands Management (CA-930).

[FR Doc. E8-24350 Filed 10-14-08; 8:45 am]

BILLING CODE 4310-MN-P